DEPARTMENT OF HEALTH AND HUMAN SERVICES

Stakeholder Listening Session for the G7 Health Track

AGENCY: Office of Global Affairs, Department of Health and Human Services.

ACTION: Notice of public listening session; request for comments.

DATES: The listening session will be held on Wednesday, July 24, 2024, from 10 a.m. to 12 p.m. Eastern Daylight Time. This meeting is open to the public but requires RSVP to oga.rsvp@hhs.gov by Friday, July 19, 2024. See RSVP section in SUPPLEMENTARY INFORMATION for details.

ADDRESSES: The session will be held virtually, with online and dial-in information shared with registered participants.

SUPPLEMENTARY INFORMATION:

Purpose: The U.S. Department of Health and Human Services (HHS), with support from relevant health-related U.S. Government offices, is charged with leading U.S. engagement in the Group of 7 (G7) Health Track and will convene an informal Stakeholder Listening Session.

The Stakeholder Listening Session is designed to seek input from stakeholders and subject matter experts to help inform and prepare for U.S. government engagement with G7 health ministries.

The Group of Seven (G7) is an informal grouping of advanced democracies that meets annually to coordinate global economic policy and address other transnational issues. The Group was established as a platform for economic and financial cooperation in response to the 1973 energy crisis. Over the years G7 has progressively expanded its focus. From an ad-hoc gathering to discuss financial challenges, it has become a more formal, prominent venue to address major global issues.

The G7 is comprised of 7 countries: Canada, France, Germany, Italy, Japan, the United Kingdom, and the U.S. The European Union also participates in the Group as a “nonenumerated” member.

Each year, a different member country holds the presidency of the group and hosts the meetings. The presidency proposes the group's priorities for the year and hosts discussions to work towards consensus positions and actions on those priorities. This year's G7 presidency is Italy, which will be hosting Health Working Group meetings throughout the year, culminating in a Health Ministers' Meeting on in mid-October in Ancona, Italy.

Matters to be Discussed: The Stakeholder Listening Session will cover global health issues under the general themes of global health security and health systems strengthening, prevention and healthy aging, and addressing urgent challenges to health, which could benefit from G7 engagement.

Participation is welcome from stakeholder communities, including:

• Public health and advocacy groups

• State, local, and Tribal groups

• Private industry

• Minority health organizations

• Academic and scientific organizations

RSVP: Persons seeking to attend or speak at the listening session must register by Friday, July 19, 2024.

Registrants must include their full name and organization, if any, and indicate whether they are registering as a listen-only attendee or as a speaker participant to oga.rsvp@hhs.gov.

Requests to participate as a speaker must include:

1. The name and email address of the person desiring to participate

2. The organization(s) that person represents, if any

3. Identification of the primary topic(s) of interest

Other Information: Written comments should be emailed to oga.rsvp@hhs.gov with the subject line “Written Comment Re: Stakeholder Listening Session in preparation for the G7 Health Track” by Friday, July 26, 2024.

We look forward to your comments on U.S. engagement in the G7 Health Track.

Dated: May 23, 2024.
Susan Kim,
Principal Deputy Assistant Secretary, Office of Global Affairs.

[FR Doc. 2024-11787 Filed 5-29-24; 8:45 am]

BILLING CODE 4150-38-P